SMALL BUSINESS ADMINISTRATION

Region IX—Hawaii District Advisory Council; Public Meeting

The Small Business Administration Region IX Hawaii District Advisory Council, located in the geographical area of Honolulu, Hawaii, will hold a public meeting at 10 a.m pacific time on Thursday, September 6, 2001, at the Prince Kuhio Federal Building, 300 Ala Moana Blvd., Room 5-161, Honolulu, HI 96850, to discuss such matters as may be presented by members, staff of the Small Business Administration, or others present.

Anyone wishing to make an oral presentation to the Board must contact Andrew K. Poepoe, District Director, in writing by letter or fax no later than August 13, 2001, in order to be put on the agenda. Andrew K. Poepoe, District Director, U.S. Small Business Administration, 300 Ala Moana Boulevard, Room 2-235 Honolulu, Hawaii 96850-4981 (808) 541-2965, phone (808) 541-2976 fax.

Nancyellen Gentile,
Committee Management Officer.

[FR Doc. 01-20210 Filed 8-10-01; 8:45 am]

BILLING CODE 8025-01-P